DEPARTMENT OF ENERGY

Federal Energy Regulatory Commission

[Project No. 1510-018]

City of Kaukauna-Kaukauna Utilities; Notice of Application Tendered for Filing With the Commission and Establishing Procedural Schedule for Licensing and Deadline for Submission of Final Amendments

Take notice that the following hydroelectric application has been filed with the Commission and is available for public inspection.

a. Type of Application: New Major License.

b. Project No.: 1510-018.

c. Date Filed: March 24, 2017.

d. Applicant: City of Kaukauna-Kaukauna Utilities (Kaukauna Utilities).

e. Name of Project: Kaukauna City Plant Hydroelectric Project.

f. Location: On the Fox River in Outagamie County, Wisconsin. There are no federal or tribal lands within the project boundary.

g. Filed Pursuant to: Federal Power Act 16 U.S.C. 791(a)-825(r).

h. Applicant Contact: Mr. Mike Pedersen, Kaukauna Utilities, 777 Island Street, P.O. Box 1777, Kaukauna, WI 54130; (920) 766-5721.

i. FERC Contact: Erin Kimsey, (202) 502-8621 or erin.kimsey@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: May 23, 2017.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-1510-018.

m. This application is not ready for environmental analysis at this time.

n. The existing Kaukauna City Plant Hydroelectric Project consists of: (1) A 3,527-foot-long, 14-foot-high dam that includes: (a) A 930-foot-long, 14-foot-high rubble masonry retaining wall section (left forebay dam) with a remnant concrete headwall structure and a trash sluice; (b) a 92-foot-long, 47.5-foot-high concrete intake and powerhouse section; (c) a 365-foot-long, 20-foot-high rubble masonry retaining wall section (right forebay dam) with a masonry abutment section and a concrete gravity section with a trash sluice; (d) a 66-foot-long gated spillway section with two 30-foot-wide, 8.8-foot-high spillway gates; and (e) a 2,074-foot-long, 10-foot-high overflow spillway section that includes a 1,305-foot-long concrete ogee section, a 75-foot-long natural rock section, a 125-foot-long concrete gravity section, and a 569-foot-long concrete gravity section; (2) a 19-acre,1.5-mile-long impoundment with a normal maximum elevation of 629.0 above mean seal level; (3) an intake structure with two head gates and two 25-foot-high, 88-foot-long trashracks with 5 inch clear-bar spacing; (4) a 92-foot-long, 47.5-foot-high concrete and brick powerhouse containing two 2.4-megawatt (MW) turbine-generator units for a total capacity of 4.8 MW; (5) a 440-foot-wide, 49-foot-deep, 1,200-foot-long excavated tailrace; (6) two 68-foot-long, 2.4-kilovolt generator leads that connect the turbine-generator units to the regional distribution line; and (7) appurtenant facilities.

Kaukauna Utilities operates the project in a run-of-river mode with an annual average generation of approximately 29,704 megawatt-hours. Kaukauna Utilities is not proposing any new project facilities or changes in project operation.

o. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

p. Procedural schedule and final amendments: The application will be processed according to the following preliminary Hydro Licensing Schedule. Revisions to the schedule will be made as appropriate.

Issue Deficiency Letter (if necessary) | June 2017.
Request Additional Information | June 2017.
Issue Acceptance Letter | September 2017.
Issue Scoping Document 1 for comments | September 2017.
Request Additional Information (if necessary) | November 2017.
Issue Scoping Document 2 | January 2018.
Issue notice of ready for environmental analysis | February 2018.
Commission issues EA or draft EA | August 2018.
Comments on EA or draft EA | September 2018.
Commission issues final EA | December 2018.

Final amendments to the application must be filed with the Commission no later than 30 days from the issuance date of the notice of application ready for environmental analysis.

Dated: April 6, 2017.
Kimberly D. Bose,
Secretary.

[FR Doc. 2017-07356 Filed 4-11-17; 8:45 am]

BILLING CODE 6717-01-P